DEPARTMENT OF EDUCATION

Withdrawal of Notice Inviting Applications and Cancellation of the Competition for the American Indian Vocational Rehabilitation Services Program

AGENCY: Office of Special Education and Rehabilitative Services (OSERS), Department of Education.

ACTION: Notice.

SUMMARY: The U.S. Department of Education (Department) withdraws the notice inviting applications (NIA) and cancels the competition for the fiscal year (FY) 2020 American Indian Vocational Rehabilitation Services (AIVRS) program under Catalog of Federal Domestic Assistance (CFDA) number 84.250N. The Department intends to announce a new competition in FY 2021.

DATES: The withdrawal and cancellation of the document published on March 9, 2020 (85 FR 13636) is effective August 17, 2020.

FOR FURTHER INFORMATION CONTACT: August Martin, U.S. Department of Education, 400 Maryland Avenue SW, Room 5064A, Potomac Center Plaza, Washington, DC 20202-1800. Telephone: 202-245-7410. Email: August.Martin@ed.gov.

If you use a telecommunications device for the deaf (TDD) or a text telephone (TTY), call the Federal Relay Service (FRS), toll free, at 1-800-877-8339.

SUPPLEMENTARY INFORMATION:

Background

Under section 121(a) of the Rehabilitation Act of 1973, as amended (the Act), the purpose of the AIVRS program is to provide grants to the governing bodies of Indian Tribes located on Federal and State reservations (and consortia of such governing bodies) to pay 90 percent of the costs of vocational rehabilitation (VR) services, including culturally appropriate services, to American Indians with disabilities who reside on or near Federal or State reservations, consistent with each eligible individual's strengths, resources, priorities, concerns, abilities, capabilities, interests, and informed choice, so that each individual may prepare for, and engage in, high-quality employment that will increase opportunities for economic self-sufficiency.

On March 9, 2020, the Department published in the Federal Register (85 FR 13636) an NIA for the FY 2020 AIVRS competition, CFDA 84.250N, Grants.gov opportunity number ED-GRANTS-030920-001.

At roughly the same time, the COVID-19 pandemic began to affect the United States. American Indian reservations experienced and continue to experience a high rate of COVID-19 infections. Many of the entities eligible for AIVRS grants across the country took actions to limit the spread of COVID-19 by requiring their non-essential personnel to shelter at home. We have been informed that many AIVRS personnel who continue to shelter-in-place at home to avoid exposure to COVID-19 have limited access to the necessary technology to telework, such as personal computers, Wi-Fi, or internet availability to connect to workplace servers or workplace resources, and we assume that would also be true of personnel who do not currently receive a grant but would be eligible to apply. This limits their ability to access the information needed to prepare a quality application for the FY 2020 AIVRS competition.

In addition, we have been notified that some of the programs attempting to develop grant applications have had difficulty acquiring the Tribal resolutions needed to submit an application for Federal funding or working with the Tribes' administration, including the authorized representatives needed to approve, sign, and submit applications in Grants.gov.

On May 20, 2020, the Department published a notice in the Federal Register (85 FR 30690) extending the deadline for the transmittal of applications for the AIVRS program competition (84.250N) to June 26, 2020. However, given the ongoing and, for some Tribes, escalating cases of COVID-19 and the continuing challenges resulting from the pandemic, the 30-day extension has not been sufficient to address these circumstances. Therefore, the Department is withdrawing the NIA and cancelling the FY 2020 AIVRS CFDA 84.250N grant competition.

In order to allow for continuity of services for the AIVRS program, the Department is, through a document published elsewhere in this issue of the Federal Register, extending the project period and waiving the requirements in 34 CFR 75.250, which prohibit project periods exceeding five years, as well as waiving the requirements in 34 CFR 75.261(a) and (c)(2), which allow the extension of a project period only if the extension does not involve the obligation of additional Federal funds. The extension and waivers will enable the Department to provide additional funds to the current 29 projects under CFDA 84.250K, which were awarded in FY 2015 and will expire as of September 30, 2020. With the additional funds, the Department will also be able to extend those grants to September 30, 2021.

The Department intends to announce a new AIVRS grant competition for five-year grants in FY 2021. Through that competition the Department intends to make funds available for all eligible applicants, including the 29 AIVRS grantees funded in FY 2015 and the 13 AIVRS grantees funded in FY 2016, whose grants will be expiring on September 30, 2021.

Intergovernmental Review

These programs are not subject to Executive Order 12372 and the regulations in 34 CFR part 79.

Accessible Format: Individuals with disabilities can obtain this document in an accessible format (e.g., braille, large print, audiotape, or compact disc) on request to the contact person listed under FOR FURTHER INFORMATION CONTACT.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Mark Schultz,
Commissioner, Rehabilitation Services Administration, Delegated the authority to perform the functions and duties of the Assistant Secretary for the Office of Special Education and Rehabilitative Services.

[FR Doc. 2020-18004 Filed 8-13-20; 4:15 pm]

BILLING CODE 4000-01-P